ENVIRONMENTAL PROTECTION AGENCY

[FRL-8921-9]

Science Advisory Board Staff Office; Clean Air Scientific Advisory Committee (CASAC); NOx & SOx Secondary NAAQS Review Panel Meeting and CASAC Teleconference

AGENCY: Environmental Protection Agency (EPA).

ACTION: Notice.

SUMMARY: The Environmental Protection Agency (EPA) Science Advisory Board (SAB) Staff Office announces a public meeting of the Clean Air Scientific Advisory Committee Oxides of Nitrogen (NOx) and Sulfur Oxides (SOx) Secondary National Ambient Air Quality Standards (NAAQS) Review Panel (CASAC Panel) to peer review EPA's Risk and Exposure Assessment for Review of the Secondary National Ambient Air Quality Standards for Oxides of Nitrogen and Oxides of Sulfur: Second Draft (EPA-452/P-09-004a). The chartered CASAC will subsequently hold a public teleconference to review and approve the Panel's report.

DATES: The CASAC Panel will meet from 8:30 a.m. Wednesday, July 22, 2009 through 3 p.m. Thursday, July 23, 2009 (Eastern Time). The chartered CASAC will meet by public teleconference from 10 a.m. to 12 p.m. on August 20, 2009 (Eastern Time).

Location: The July 22-23, 2009 public meeting will take place at the Marriott at Research Triangle Park, 4700 Guardian Drive, Durham, NC 27703, telephone (919) 941-6200. The August 20, 2009 public teleconference will be conducted by telephone only.

FOR FURTHER INFORMATION CONTACT: Any member of the public who wishes to submit a written or brief oral statement or wants further information concerning the July 22-23, 2009 meeting may contact Ms. Kyndall Barry, Designated Federal Officer (DFO), EPA Science Advisory Board (1400F), U.S. Environmental Protection Agency, 1200 Pennsylvania Avenue, NW., Washington, DC 20460; via telephone/voice mail (202) 343-9868; fax (202) 233-0643; or e-mail at barry.kyndall@epa.gov. For information on the CASAC teleconference on August 20, 2009, please contact Dr. Holly Stallworth, Designated Federal Officer (DFO), at the above listed address; via telephone/voice mail (202) 343-9867 or e-mail at stallworth.holly@epa.gov. General information concerning the CASAC and the CASAC documents can be found on the EPA Web site at http://www.epa.gov/casac.

SUPPLEMENTARY INFORMATION: Background: Pursuant to the Federal Advisory Committee Act, Public Law 92-463 5 U.S.C., App. 2 (FACA), notice is hereby given that a CASAC Panel will hold a public meeting to peer review EPA's Risk and Exposure Assessment for Review of the Secondary National Ambient Air Quality Standards for Oxides of Nitrogen and Oxides of Sulfur: Second Draft and that the chartered CASAC will hold a public teleconference to review and approve the Panel's draft report. The CASAC was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC and CASAC Panel will comply with the provisions of FACA and all appropriate SAB Staff Office procedural policies.

Section 109(d)(1) of the CAA requires that the Agency periodically review and revise, as appropriate, the air quality criteria and the NAAQS for the six “criteria” air pollutants, including NOx and SOx. EPA is in the process of reviewing the secondary NAAQS for NOx and SOx. Welfare effects as defined in the CAA include, but are not limited to, effects on soils, water, wildlife, vegetation, visibility, weather, and climate, as well as effects on materials, economic values, and personal comfort and well-being.

CASAC has previously provided consultative advice on EPA's Draft Plan for Review of the Secondary National Ambient Air Quality Standards for Nitrogen Dioxide and Sulfur Dioxide and conducted peer reviews of the first and second drafts of EPA's Integrated Science Assessment fox Oxides of Nitrogen and Sulfur—Environmental Criteria. CASAC also provided consultative advice on EPA's Scope and Methods Plan for Risk/Exposure Assessment and conducted a peer review of EPA's Risk and Exposure Assessment for Review of the Secondary National Ambient Air Quality Standards for Oxides of Nitrogen and Oxides of Sulfur: First Draft. The CASAC advisory reports are available on the EPA Web site at http://www.epa.gov/casac.

The purpose of the July 22-23, 2009 meeting is for the CASAC Panel to conduct a peer review of EPA's Risk and Exposure Assessment for Review of the Secondary National Ambient Air Quality Standards for Oxides of Nitrogen and Oxides of Sulfur: Second Draft. The chartered CASAC will review and approve the Panel's draft report on the REA by public conference call on August 20, 2009.

Technical Contacts: Any questions concerning EPA's Risk and Exposure Assessment for Review of the Secondary National Ambient Air Quality Standards for Oxides of Nitrogen and Oxides of Sulfur: Second Draft should be directed to Dr. Anne Rea, OAR, by telephone at (919) 541-0053, or e-mail rea.anne@epa.gov.

Availability of Meeting Materials: EPA-OAR's Risk and Exposure Assessment for Review of the Secondary National Ambient Air Quality Standards for Oxides of Nitrogen and Oxides of Sulfur: Second Draft can be accessed at http://www.epa.gov/ttn/naaqs/standards/no2so2sec/cr_rea.html. The agenda and other materials for the CASAC meetings will be posted on the SAB Web site at http://www.epa.gov/casac.

Procedures for Providing Public Input: Interested members of the public may submit relevant written or oral information for consideration on the topics included in this advisory activity. Oral Statements: In general, individuals or groups requesting an oral presentation at the public meeting will be limited to five minutes per speaker, with no more than a total of one hour for all speakers. Public statements during the teleconference will be limited to three minutes per speaker, with no more than a total of thirty minutes for all speakers. To be placed on the public speaker list for the July 22-23, 2009 meeting, interested parties should notify Ms. Kyndall Barry, DFO, by e-mail no later than July 17, 2009. To be placed on the public speaker list for the August 20, 2009 teleconference, interested parties should notify Dr. Holly Stallworth, DFO, by e-mail no later than August 14, 2009. Written Statements: Written statements for the July 22-23, 2009 received in the SAB Staff Office by July 17, 2009, so that the information may be made available to the CASAC Panel for its consideration prior to this meeting. For the teleconference meeting of the chartered CASAC on August 20, 2009, statements should be received in the SAB Staff Office by August 14, 2009. Written statements should be supplied to the appropriate DFO in the following formats: one hard copy with original signature and one electronic copy via e-mail (acceptable file format: Adobe Acrobat PDF, MS Word, WordPerfect, MS PowerPoint, or Rich Text files in IBM-PC/Windows 98/2000/XP format). Submitters are requested to provide versions of each document submitted with and without signatures, because the SAB Staff Office does not publish documents with signatures on its Web sites.

Accessibility: For information on access or services for individuals with disabilities, please contact Ms. Barry at the phone number or e-mail address noted above, preferably at least ten days prior to the face-to-face meeting, to give EPA as much time as possible to process your request.

Dated: June 17, 2009.
Anthony F. Maciorowski,
Deputy Director, EPA Science Advisory Board Staff Office.

[FR Doc. E9-14712 Filed 6-22-09; 8:45 am]

BILLING CODE 6560-50-P